DEPARTMENT OF HOMELAND SECURITY

Federal Emergency Management Agency

[Docket ID: FEMA-2011-0003]

Agency Information Collection Activities: Submission for OMB Review; Comment Request, OMB No. 1660-0058; Fire Management Assistance Grant Program

AGENCY: Federal Emergency Management Agency, DHS.

ACTION: Notice; 30-day notice and request for comments; extension, without change, of a currently approved information collection; OMB No. 1660-0058; FEMA Form 078-0-1 (previously FEMA Form 90-58), Request for Fire Management Assistance Declaration; FEMA Form 089-0-24 (previously FEMA Form 90-133), Request for Fire Management Sub-grant; FEMA Form 078-0-2 (previously FEMA Form 90-32), Principal Advisor's Report.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 8, 2011.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Fire Management Assistance Grant Program.

Type of information collection: Extension, without change, of a currently approved information collection.

OMB Number: 1660-0058.

Form Titles and Numbers: FEMA Form 078-0-1 (previously FEMA Form 90-58), Request for Fire Management Assistance Declaration; FEMA Form 089-0-24 (previously FEMA Form 90-133), Request for Fire Management Sub-grant; FEMA Form 078-0-2 (previously FEMA Form 90-32), Principal Advisor's Report.

Abstract: The information collection is required to make grant eligibility determinations for the Fire Management Assistance Grant Program (FMAGP). These eligibility-based grants and subgrants provide assistance to any eligible State, Tribal Government, or local government for the mitigation, management, and control of a fire on public or private forest land or grassland that is threatening such destruction as would constitute a major disaster. The data/information gathered in the forms is used to determine the severity of the threatening fire, current and forecast weather conditions, and associated factors related to the fire and its potential threat as a major disaster.

Affected Public: State, local, or Tribal Government.

Estimated Number of Respondents: 178.

Frequency of Response: On occasion.

Estimated Average Hour Burden per Respondent: FEMA-State Agreement and Amendment, 24 minutes; State Administrative Plan for Fire Management Assistance, 8 hours; Request for Fire Management Assistance Declaration, FEMA Form 078-0-1 (Previously FF 90-58), 1 hour; Request for Fire Management Assistance Sub-grant, FEMA Form 089-0-24 (Previously FF 90-133), 18 minutes; Principal Advisor's Report, FEMA Form 078-0-2 (Previously FF 90-32), 3 hours; Appeal Letter, 1 hour; Duplication of Benefits Letter, 1 hour; Training Sessions, 90 minutes.

Estimated Total Annual Burden Hours: 810.5 hours.

Estimated Cost: There are no annual operation, maintenance, capital or startup costs associated with this collection.

Dated: June 1, 2011.
Lesia M. Banks,
Director, Records Management Division, Mission Support Bureau, Federal Emergency Management Agency, Department of Homeland Security.

[FR Doc. 2011-14069 Filed 6-7-11; 8:45 am]

BILLING CODE 9111-23-P